DEPARTMENT OF HOMELAND SECURITY

Federal Emergency Management Agency

[Docket ID: FEMA-2018-0003; OMB No. 1660-0138]

Agency Information Collection Activities: Submission for OMB Review; Comment Request; Direct Housing Program Forms

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 16, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Elizabeth McDowell, Supervisory Program Specialist, FEMA, Recovery Directorate, at (540) 686-3630.

SUPPLEMENTARY INFORMATION: This proposed information collection previously published in the Federal Register on March 27, 2018 at 83 FR 13140 with a 60-day public comment period. We received one comment that was unrelated to the information collection. The purpose of this notice is to notify the public that FEMA will submit the information collection abstracted below to the Office of Management and Budget for review and clearance.

Collection of Information

Title: Direct Housing Program Forms.

Type of Information Collection: Revision of a currently approved information collection.

OMB Number: 1660-0138.

Form Titles and Numbers: FEMA Form 009-0-129, Ready for Occupancy Status; FEMA Form 009-0-131, Sales Calculation Worksheet; FEMA Form 009-0-134, Disaster Assistance Recertification Worksheet; FEMA Form 009-0-135, Temporary Housing Agreement; FEMA Form 009-0-137, Unit Pad Requirements—Information Checklist.

Abstract: The Robert T. Stafford Disaster Relief and Emergency Assistance Act (42 U.S.C. 5174) authorizes the President to provide temporary housing units to include manufactured housing units, recreational vehicles and other readily fabricated dwellings to eligible applicants who require temporary housing as a result of a major disaster. The information collected is necessary to determine the feasibility of a potential site for placement of a Transportable Temporary Housing Unit (TTHU), to ensure the TTHU is ready for applicant occupancy, and to confirm applicant understanding of the requirements of occupancy of the TTHUs.

Affected Public: Individuals or households, Business or other for-profits.

Estimated Number of Respondents: 25,000.

Estimated Number of Responses: 25,000.

Estimated Total Annual Burden Hours: 7,917.

Estimated Total Annual Respondent Cost: $320,453.28.

Estimated Respondents' Operation and Maintenance Costs: $0.

Estimated Respondents' Capital and Start-Up Costs: $0.

Estimated Total Annual Cost to the Federal Government: $2,997,510.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: June 11, 2018.
Rachel Frier,
Records Management Branch Chief, Office of the Chief Administrative Officer, Mission Support, Federal Emergency Management Agency, Department of Homeland Security.

[FR Doc. 2018-12888 Filed 6-14-18; 8:45 am]

BILLING CODE 9111-23-P